NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 14, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: requestschedule@nara.gov. FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-08-2, 2 items, 2 temporary items). Records relating to materiel release, fielding, and transfer, including materiel type classification documentation, milestone decision memorandums, and documents verifying materiel safety, suitability, and supportability requirements.

2. Department of the Army, Agency-wide (N1-AU-08-3, 2 items, 2 temporary items). Records relating to the Integrated Logistics Support program, including materiel development supporting strategies, supporting analysis, and documents on analytical support concepts, design trade-offs, and personnel requirements.

3. Department of Homeland Security, Domestic Nuclear Detection Office (N1-563-08-13, 8 items, 8 temporary items). Records collected on spikes in radiation levels above accepted thresholds across the nation, reports, letters to vendors, assessments, and case files created and maintained to evaluate nuclear detection equipment and systems. The significant activities of this office are documented in executive level records such as strategic plans and annual reports, which were previously approved for permanent retention.

4. Department of Homeland Security, Office of the Chief Procurement Officer (N1-563-08-8, 8 items, 6 temporary items). Acquisition alerts, reviews of proposed acquisition regulations, listings of contracting opportunities, applications and approvals of waivers and deviations, and lists of contractors debarred and suspended from contracting with the agency. Proposed for permanent retention are the agency acquisition manual and acquisition regulations.

5. Department of Homeland Security, Science and Technology Directorate (N1-563-07-20, 4 items, 2 temporary items). National interoperability baseline survey records and interoperability case study records relating to non-significant events. Proposed for permanent retention are interoperability case study records relating to significant events and scientific publications assessing chemical and biological threats to homeland security.

6. Department of the Interior, Bureau of Reclamation (N1-115-08-8, 1 item, 1 temporary item). Master files of an electronic information system that makes available commonly used geospatial data themes for a variety of bureau programs. The proposed disposition instructions are limited to electronic records.

7. Department of Justice, Criminal Division (N1-60-08-17, 1 item, 1 temporary item). Master file for the Witness Security Tracking system, which tracks information on applicants and individuals accepted into the Federal Witness Security Program.

8. Department of Justice, Criminal Division (N1-60-08-18, 1 item, 1 temporary item). Master file for the Phonelog Tracking system, which records details of phone calls made and received by attorneys in advisory capacities.

9. Department of Justice, Justice Management Division (N1-60-08-2, 1 item, 1 temporary item). Master file for the Consolidated Debt Collection System, which tracks records of civil and criminal debts referred by agencies to the Department of Justice for litigation and enforcement.

10. Department of Justice, Bureau of Alcohol, Tobacco, Firearms and Explosives (N1-436-08-3, 2 items, 2 temporary items). Inputs and master file of the Explosives Catalog System, which stores and retrieves identifying information on explosive products.

11. Department of Justice, Federal Bureau of Investigation (N1-5-08-15, 1 item, 1 temporary item). This schedule requests authority to destroy cases 29J-BF-32354 and 29C-MP-56276, which pertain exclusively to the investigation of the captioned individuals. This request responds to a Federal Pre-Trial Diversion Program court order to delete the records of the captioned individuals.

12. Department of Justice, Federal Bureau of Investigation (N1-65-08-16, 1 item, 1 temporary item). This schedule requests authority to destroy case 265A-SI-52450, which pertains exclusively to the investigation of the captioned individual. This request responds to a Federal Pre-Trial Diversion Program court order to delete the records of the captioned individual.

13. Department of the Navy, Naval Meteorology and Oceanography Command (N1-NU-07-7, 20 items, 17 temporary items). Scientific data and other records relating to all phases of oceanographic, meteorological, and hydrographic functions. Proposed for permanent retention are primary program records at specific command levels, weather phenomena records, and information products.

14. Department of the Navy, United States Marine Corps (N1-NU-07-9, 1 item, 1 temporary item). Master file associated with an electronic information system that tracks claims for Marine Corps service members who experience a serious traumatic injury. The proposed disposition instructions are limited to electronic records.

15. Department of State, Bureau of Consular Affairs (N1-59-08-6, 5 items, 4 temporary items). Calendars, reading files, and e-mail files created and maintained by the bureau front office. Proposed for permanent retention are subject files. The proposed disposition instructions for subject files are limited to paper records.

16. Department of State, Bureau of South and Central Asian Affairs (N1-59-08-9, 7 items, 4 temporary items). Subject files, background files, copies of briefing books, and departmental task force/working group files. Proposed for permanent retention are bureau-level task force/working group files, geographic office briefing books, and unique collections of records documenting historically significant events within the geographic region covered by the bureau. The proposed disposition instructions for permanent items are limited to paper records.

17. Department of the Treasury, Internal Revenue Service (N1-58-08-11, 1 item, 1 temporary item). Internal Revenue Form 11370, Certification of Annual UNAX Awareness Briefing, used to document employee attendance at disclosure briefings.

18. Department of the Treasury, Internal Revenue Service (N1-58-08-12, 1 item, 1 temporary item). Internal Revenue Form 13592, Receipt and Control Final Candling Log, used to validate and record documents and/or remittances left inside envelopes after extractions have occurred.

19. Environmental Protection Agency, Agency-wide (N1-412-07-60, 9 items, 9 temporary items). This schedule authorizes the agency to apply the existing disposition instructions to records of the Office of Air and Radiation, regardless of recordkeeping medium. The records include radon action files, radiation facility and site files, radiological emergency planning files, certification of waste isolation pilot plant files, emergency planning program for radiological incidents files, and protective action planning manual work files. Paper recordkeeping copies of these files were previously approved for disposal.

20. Environmental Protection Agency, Agency-wide (N1-412-07-67, 5 items, 5 temporary items). This schedule authorizes the agency to apply the existing disposition instructions to records of the Office of Enforcement and Compliance Assurance, regardless of recordkeeping medium. The records include closed cases not referred for criminal prosecution, pre-product registration audits, and printouts of pesticide production and distribution. Paper recordkeeping copies of these files were previously approved for disposal.

21. Federal Communications Commission, Consumer and Governmental Affairs Bureau (N1-173-07-1, 12 items, 12 temporary items). Inputs, outputs, and master files for electronic information systems related to complaints received by the Consumer Inquiries and Complaints Division.

22. Federal Energy Regulatory Commission, Agency-wide (N1-138-07-1, 1 item, 1 temporary item). Quarterly filings by interstate gas pipeline utilities listing transportation and storage customers. The proposed disposition instructions are limited to electronic records.

23. Federal Maritime Commission, Bureau of Trade Analysis (N1-358-08-06, 10 items, 10 temporary items). Reading files, Office of Service Contracts and Tariffs subject files, freight and terminal operator tariffs, tariff filing exemptions, applications for permissions to deviate from tariff filing requirements, tariff registration files that provide tariff publication locations for shippers and the public, investigation files of terminals and carriers, copies of docketed files, and rejection letters and complaint files.

24. Millennium Challenge Corporation, Agency-wide (N1-561-08-3, 1 item, 1 temporary item). Master file for an electronic information system used to perform analysis of data gathered from countries partnered with the agency.

Dated: June 5, 2008.
Michael J. Kurtz,
Assistant Archivist for Records Services—Washington, DC.

[FR Doc. E8-13248 Filed 6-11-08; 8:45 am]

BILLING CODE 7515-01-P